POSTAL SERVICE

39 CFR Part 111

Address Facing Standards for Presort Bundles on Pallets

AGENCY: Postal Service.

ACTION: Final rule.

SUMMARY: The Postal Service is revising the mailing standards requiring mailers to place presort bundles on pallets with the addresses facing up.

DATES: Effective Date: September 11, 2008.

FOR FURTHER INFORMATION CONTACT: Kevin Gunther at 202-268-7208.

SUPPLEMENTARY INFORMATION: The Postal Service is in the process of implementing technological changes to automate delivery sequencing for flat-size mail, through the deployment of the Flats Sequencing System (FSS). FSS will sort flat-size mailpieces into delivery sequence, increasing the efficiency of letter carriers by reducing time in sorting mail, and allowing delivery to begin earlier in the day.

Placement of presort bundles on pallets with the address side up is needed to improve efficiencies in today's processing environment and for automated preparation and induction for FSS in the future.

In today's processing applications, this new standard will aid in validating that bundles are placed on the correct pallet, improving the manual distribution of these bundles.

Comments Received: We received one comment on the proposal, from a commercial printer. The commenter recommended we revise the proposal to allow one or two columns of bundles to be placed on their edge to maximize the “footprint” of mail that can be placed on a pallet.

Pallets containing bundles placed on their edge will not maintain their integrity as well as pallets containing bundles that all lie flat. Allowing bundles on their edge would also lessen our ability to read the address side of a bundle, which is one objective of this standard change. In addition, we plan to use automated preparation stations to support FSS, which require bundles to lie flat on pallets. Therefore, we have decided not to adopt the recommendation.

Implementation: Effective September 11, 2008, mailers must prepare pallets, containing presort bundles with all addresses facing up, under revised DMM 705.8.5.6. We encourage mailers to make these changes as soon as possible, but no later than September 11, 2008.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 39 U.S.C. 101, 401, 403, 404, 414, 416, 3001-3011, 3201-3219, 3403-3406, 3621, 3622, 3626, 3633, and 5001.

2. Revise the following sections of Mailing Standards of the United States Postal Service, Domestic Mail Manual (DMM) as follows:

Mailing Standards of the United States Postal Service, Domestic Mail Manual (DMM)

* * * * *

700 Special Standards

* * * * *

705 Advanced Preparation and Special Postage Payment Systems

* * * * *

8.0 Preparing Pallets

* * * * *

8.5 General Preparation

* * * * *

8.5.6 Mail on Pallets

* * * * *

[Add new item i to clarify that presort bundles on pallets must be placed face up as follows:]

i. All presort bundles on pallets must be placed with the addresses facing up.

* * * * *

Neva R. Watson,
Attorney, Legislative.

[FR Doc. E8-12148 Filed 6-5-08; 8:45 am]

BILLING CODE 7710-12-P